FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Tuesday, November 20, 2018, to consider the following matters:

Summary Agenda: No substantive discussion of the following items is anticipated. These matters will be resolved with a single vote unless a member of the Board of Directors requests that an item be moved to the discussion agenda.

Disposition of minutes of previous Board of Directors' Meetings.

Memorandum and resolution re: Regulatory Capital Rule: Capital Simplification for Qualifying Community Banking Organizations.

Memorandum and resolution re: Notice of Proposed Rulemaking to Increase the Appraisal Threshold for Residential Real Estate Transactions, Implement the Residential Rural Exemption, and Require Appropriate Appraisal Review.

Memorandum and resolution re: Final Rule on Transferred OTS Regulations Regarding Fiduciary Powers of State Savings Associations and Consent Requirements for the Exercise of Trust Powers.

Memorandum and resolution re: Final Rule to Revise the FDIC's Regulations Concerning Inflation-Adjusted Maximum Civil Money Penalty Amounts.

Report of actions taken pursuant to authority delegated by the Board of Directors.

Discussion Agenda:

Memorandum and resolution re: Notice of Proposed Rulemaking on Proposed Changes to Applicability Thresholds for Regulatory Capital Requirements and Liquidity Requirements.

The meeting will be held in the Board Room located on the sixth floor of the FDIC Building located at 550 17th Street NW, Washington, DC.

This Board meeting will be webcast live via the internet and subsequently made available on-demand approximately one week after the event. Visit http://fdic.windrosemedia.com to view the event. If you need any technical assistance, please visit our Video Help page at: https://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: November 14, 2018.
Federal Deposit Insurance Corporation.
Robert E. Feldman,
Executive Secretary.

[FR Doc. 2018-25184 Filed 11-14-18; 4:15 pm]

BILLING CODE 6714-01-P